DEPARTMENT OF THE INTERIOR

National Park Service

[NPS-WASO-NAGPRA-NPS0034233; PPWOCRADN0-PCU00RP14.R50000]

Notice of Inventory Completion: Office of the State Archaeologist, University of Iowa, Iowa City, IA

AGENCY: National Park Service, Interior.

ACTION: Notice.

SUMMARY: The Office of the State Archaeologist Bioarchaeology Program, previously listed as the Office of the State Archaeologist Burials Program, has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Office of the State Archaeologist Bioarchaeology Program. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Office of the State Archaeologist Bioarchaeology Program at the address in this notice by August 22, 2022.

FOR FURTHER INFORMATION CONTACT: Dr. Lara Noldner, Office of the State Archaeologist Bioarchaeology Program, University of Iowa, 700 S Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains and associated funerary objects under the control of the Office of the State Archaeologist, University of Iowa, Iowa City, IA. The human remains and associated funerary objects were removed from several unknown locations in Illinois, as well as Joe Daviess, Hancock, and Fulton Counties, IL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Office of the State Archaeologist Bioarchaeology Program professional staff in consultation with representatives of the Absentee-Shawnee Tribe of Indians of Oklahoma; Bad River Band of the Lake Superior Tribe of Chippewa Indians of the Bad River Reservation, Wisconsin; Cheyenne River Sioux Tribe of the Cheyenne River Reservation, South Dakota; Citizen Potawatomi Nation, Oklahoma; Delaware Nation, Oklahoma; Delaware Tribe of Indians; Flandreau Santee Sioux Tribe of South Dakota; Forest County Potawatomi Community, Wisconsin; Hannahville Indian Community, Michigan; Ho-Chunk Nation of Wisconsin; Iowa Tribe of Kansas and Nebraska; Iowa Tribe of Oklahoma; Kaw Nation, Oklahoma; Keweenaw Bay Indian Community, Michigan; Kickapoo Tribe of Indians of the Kickapoo Reservation in Kansas; Kickapoo Tribe of Oklahoma; Kiowa Indian Tribe of Oklahoma; Lac Courte Oreilles Band of Lake Superior Chippewa Indians of Wisconsin; Lac du Flambeau Band of Lake Superior Chippewa Indians of the Lac du Flambeau Reservation of Wisconsin; Lower Sioux Indian Community in the State of Minnesota; Menominee Indian Tribe of Wisconsin; Miami Tribe of Oklahoma; Minnesota Chippewa Tribe, Minnesota (Six component reservations: Bois Forte Band (Nett Lake); Fond du Lac Band; Grand Portage Band; Leech Lake Band; Mille Lacs Band; White Earth Band); Oglala Sioux Tribe (previously listed as Oglala Sioux Tribe of the Pine Ridge Reservation, South Dakota); Omaha Tribe of Nebraska; Otoe-Missouria Tribe of Indians, Oklahoma; Peoria Tribe of Indians of Oklahoma; Prairie Band Potawatomi Nation (previously listed as Prairie Band of Potawatomi Nation, Kansas); Prairie Island Indian Community in the State of Minnesota; Red Cliff Band of Lake Superior Chippewa Indians of Wisconsin; Sac & Fox Nation of Missouri in Kansas and Nebraska; Sac & Fox Nation, Oklahoma; Sac & Fox Tribe of the Mississippi in Iowa; Santee Sioux Nation, Nebraska; Sisseton-Wahpeton Oyate of the Lake Traverse Reservation, South Dakota; Sokaogon Chippewa Community, Wisconsin; Spirit Lake Tribe, North Dakota; Standing Rock Sioux Tribe of North & South Dakota; The Osage Nation (previously listed as Osage Tribe); Three Affiliated Tribes of the Fort Berthold Reservation, North Dakota; United Keetoowah Band of Cherokee Indians in Oklahoma; Upper Sioux Community, Minnesota; Winnebago Tribe of Nebraska; and the Yankton Sioux Tribe of South Dakota (hereafter referred to as “The Tribes”).

History and Description of the Remains

At an unknown date, human remains representing, at minimum, one individual were removed from an unknown location in IL. A private individual purchased the human remains at a flea market in Maquoketa, IA, and reasonably believed that the human remains were originally found in Illinois. In 1999, this individual transferred the human remains to the Office of the State Archaeologist Bioarchaeology Program (OSA-BP). The human remains, represented by the lumbar vertebra, belong to an older juvenile or adult less than 25 years old and of unknown sex. A metal projectile point embedded into the bone appears to have been inserted in the recent past and does not reflect actual lifetime trauma (Burial Project 1339). No known individual was identified. No associated funerary objects are present.

At an unknown date, human remains representing, at minimum, five individuals were removed from an unknown site reasonably believed to be in Illinois. At some point, the human remains became part of the teaching collection of John Hansen, a professor at St. Ambrose University in Davenport, IA. In 1995, following the retirement of Dr. Hansen, the human remains were transferred to the Office of the State Archaeologist Bioarchaeology Program. The human remains belong to two middle-aged-to-old adult males; one adult of unknown age and sex; and two juveniles (one aged 7.5 to 12.5 years old and one of unknown age) of unknown sex (Burial Project 3078). No known individuals were identified. No associated funerary objects are present.

At an unknown date, human remains representing, at minimum, one individual were removed from an unknown location in Jo Daviess County, IL. The human remains were part of the collections of Richard Herrmann, a private individual. At an unknown date, Mr. Herrmann donated the human remains to the Ham House Museum in Dubuque, IA (catalog #64-14-145). In 1986, the human remains were transferred to the Office of the State Archaeologist Bioarchaeology Program. The human remains, represented by the cranium and mandible, belong to an adult male between 24 and 45 years old. Cranial metrics and dental wear suggest this individual was Native American (Burial Project 655). No known individual was identified. No associated funerary objects are present.

At an unknown date, human remains representing, at minimum, two individuals were removed from an unknown location in Illinois. The human remains were part of the collections of Richard Herrmann, a private individual. At an unknown date, Mr. Herrmann donated the human remains to the Ham House Museum in Dubuque, IA (catalog #64-14-61). In 1986, the human remains were transferred to the Office of the State Archaeologist Bioarchaeology Program. The human remains belong to two adults of unknown age. One is possibly male and the other is possibly female (Burial Project 655). No known individuals were identified. No associated funerary objects are present.

On August 7, 1966, human remains representing, at minimum, 10 individuals were removed from an unidentified mound near the Mississippi River in Illinois. The human remains were excavated by a private collector and transferred to the Office of the State Archaeologist after the collector's death in 1994. The human remains belong to four adults of indeterminate age and sex, a juvenile 6 months-1.5 years old, two juveniles 1.5-3.0 years old, a juvenile 4-5 years old, a juvenile 7-12 years old, and a juvenile 13-18-years-old (Burial Project 785). No known individuals were identified. The 23 associated funerary objects are one fragment of a chert biface, one chert flake, one Middle Woodland axe, one flake of hematite, one small shell with a drilled end, one unmodified freshwater clam shell, nine faunal bone fragments, one grass seed, and seven small pieces of unmodified limestone.

At an unknown date, human remains representing, at minimum, three individuals were removed from an unidentified mound in Illinois. The human remains were excavated by a private collector and were transferred to the Office of the State Archaeologist after the collector's death in 1994. The human remains belong to a probable male adult, an adolescent, and an infant (Burial Project 785). No known individuals were identified. The four associated funerary objects are four small slabs of limestone.

On September 8, 1958, human remains representing, at minimum, five individuals were removed from an unidentified mound near the Mississippi River in Illinois. The human remains were excavated by a private collector and transferred to the Office of the State Archaeologist after the collector's death in 1994. The human remains belong to two adults of unknown age and sex, a juvenile approximately 2.5-5 years old, a juvenile 5-6.5 years old, and a juvenile 6.5-14 years old (Burial Project 785). No known individuals were identified. No associated funerary objects are present.

On October 16, 1983, human remains representing, at minimum, two individuals were removed from one double burial or two individual burials situated on the bank of the Mississippi River in Hancock County, IL. The site may have been located in the vicinity of site 11HA45. The human remains were excavated by a private collector and transferred to the Office of the State Archaeologist after the collector's death in 1994. The human remains belong to an old adult of indeterminate sex and a child 2.5-3.5 years old (Burial Project 785). No known individuals were identified. The 25 associated funerary objects are one pot sherd, six unmodified river pebbles, six bifacial chert cores, one chert gouge, one chert adze, one chert biface, one bifacial chert cutting tool, six projectile points, and two pieces of natural limestone.

On August 10, 1964, human remains representing, at minimum, four individuals were removed from a mound located on a property described as “the Taswell land” in Illinois. The human remains were excavated by a private collector and transferred to the Office of the State Archaeologist after the collector's death in 1994. The human remains belong to a juvenile 2.5-4 years old, a juvenile 3.5-4.5 years old, a juvenile 5-6.5 years old, and an older juvenile of unknown age (Burial Project 785). No known individuals were identified. No associated funerary objects are present.

On August 18, 1964, human remains representing, at minimum, four individuals were removed from an unidentified mound in Illinois. The human remains were excavated by a private collector and transferred to the Office of the State Archaeologist after the collector's death in 1994. The human remains belong to two adults of indeterminate age and sex, an adolescent, and an infant approximately 9 months-1 year old (Burial Project 785). No known individuals were identified. The 14 associated funerary objects are 13 Late Woodland ceramic sherds and one faunal bone.

At an unknown date, human remains representing, at minimum, three individuals were removed from an unidentified mound in Illinois. The human remains were excavated by a private collector and transferred to the Office of the State Archaeologist after the collector's death in 1994. The human remains belong to two adults and one juvenile of indeterminate age and sex (Burial Project 785). No known individuals were identified. The 15 associated funerary objects are 10 small slabs of limestone, one limestone concretion, two pieces of chert debitage, one freshwater clam shell, and one incomplete skull of a groundhog (Marmota monax).

At an unknown date, human remains representing, at minimum, two individuals were removed from an unidentified mound in Illinois. The human remains were excavated by a private collector and transferred to the Office of the State Archaeologist after the collector's death in 1994. The human remains belong to an adult male and an adult female (Burial Project 785). No known individuals were identified. No associated funerary objects are present.

On June 7, 1965, human remains representing, at minimum, one individual were removed from a mound in the vicinity of Nauvoo, Hancock County, IL. The human remains were excavated by a private collector and transferred to the Office of the State Archaeologist after the collector's death in 1994. The human remains belong to an adult of unknown age and sex (Burial Project 785). No known individual was identified. No associated funerary objects are present.

At an unknown date, human remains representing, at minimum, one individual were removed from an unidentified mound in Illinois. The human remains were excavated by a private collector and transferred to the Office of the State Archaeologist after the collector's death in 1994. The human remains belong to an adult of unknown age and sex (Burial Project 785). No known individual was identified. The four associated funerary objects are one piece of chert debitage, one ceramic sherd, one piece of charcoal, and one charred nutshell.

On August 14, 1964, human remains representing, at minimum, one individual were removed from a mound located on a property described as the “Taswell land” in Illinois. The human remains were excavated by a private collector and transferred to the Office of the State Archaeologist after the collector's death in 1994. The human remains belong to an adult of unknown age and sex (Burial Project 785). No known individual was identified. The two associated funerary objects are two ceramic sherds.

Sometime in the 1960s, human remains representing, at minimum, nine individuals were removed from unidentified burial mounds in Illinois. These human remains were excavated by a private collector living in Fort Madison, Iowa. After the collector's death in 1994, the human remains were offered for bid by an auction service in Marion County, Iowa. The auctioneer was contacted, and the human remains were transferred to the Office of the State Archaeologist Bioarchaeology Program in 1994. The human remains belong to two adult males, an adult female, an individual of indeterminate age and sex, and five juveniles ranging in age from 12 months to 9 years (Burial Project 743). No known individuals were identified. No associated funerary objects are present.

The condition of the above listed human remains and the limited provenience information associated with them suggest a date in antiquity. Furthermore, the cranial metrics and severe dental attrition observed on some individuals are both consistent with characteristics of prehistoric Native Americans. That said, these human remains cannot be dated or attributed to a particular archeological context in Illinois.

Determinations Made by the Office of the State Archaeologist Bioarchaeology Program

Officials of the Office of the State Archaeologist Bioarchaeology Program have determined that:

• Pursuant to 25 U.S.C. 3001(9), the human remains described in this notice are Native American based on archival information, archeological evidence, and/or osteological analysis.

• Pursuant to 25 U.S.C. 3001(9), the human remains described in this notice represent the physical remains of 54 individuals of Native American ancestry.

• Pursuant to 25 U.S.C. 3001(3)(A), the 87 objects described in this notice are reasonably believed to have been placed with or near individual human remains at the time of death or later as part of the death rite or ceremony.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains and associated funerary objects should submit a written request with information in support of the request to Dr. Lara Noldner, Office of the State Archaeologist Bioarchaeology Program, University of Iowa, 700 S Clinton Street, Iowa City, IA 52242, telephone (319) 384-0740, email lara-noldner@uiowa.edu, by August 22, 2022. After that date, if no additional requestors have come forward, transfer of control of the human remains and associated funerary objects to The Tribes may proceed.

The Office of the State Archaeologist Bioarchaeology Program is responsible for notifying The Tribes that this notice has been published.

Dated: July 13, 2022.
Melanie O'Brien,
Manager, National NAGPRA Program.

[FR Doc. 2022-15548 Filed 7-20-22; 8:45 am]

BILLING CODE 4312-52-P